DEPARTMENT OF THE TREASURY

Community Development Financial Institutions Fund

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “Fund”) within the Department of the Treasury is soliciting comments concerning the Fund's reporting requirement for an annual report from awardees of the Fund's Community Development Financial Institutions (CDFI) Program.

DATES: Written comments should be received on or before August 5, 2003, to be assured of consideration.

ADDRESSES: Direct all comments to Owen Jones, Deputy Director for Management/CFO, Community Development Financial Institutions Fund, U.S. Department of the Treasury, 601 13th Street, NW., Suite 200 South, Washington, DC 20005, facsimile number (202) 622-7754.

FOR FURTHER INFORMATION CONTACT: A draft of the information collection for the annual report may be obtained from the Fund's Web site at http://www.cdfifund.go. Requests for additional information should be directed to Owen Jones, Deputy Director for Management/CFO, Community Development Financial Institutions Fund, U.S. Department of the Treasury, 601 13th Street, NW., Suite 200 South, Washington, DC 20005, or call (202) 622-8662.

SUPPLEMENTARY INFORMATION: Title: The Community Development Financial Institutions Fund—Annual Report.

OMB Number: 1559-0006.

Abstract: The purpose of the Fund's CDFI Program is to promote economic revitalization and community development through investment in and assistance to certified CDFIs. Through the CDFI Program, the Fund provides financial and technical assistance in the form of grants, loans, equity investments, and deposits to competitively selected CDFIs and entities proposing to become CDFIs. The Fund provides such assistance to CDFIs to enhance their capacity to address the community development and capital access needs of their particular target markets, including Native American, Alaska Native, and Native Hawaiian communities.

All CDFI Program awardees are required to submit an annual report to the Fund. The annual report consists of narrative and quantitative information both at the institution and transaction levels. The annual report is used to assess the awardee's: (1) Activities in support of its Comprehensive Business Plan; (2) use of the Fund's financial and technical assistance; (3) financial condition; and (4) overall compliance with the terms and conditions of the Assistance Agreement executed by the Fund and the awardee.

Current Action: N/A.

Type of review: Renewal.

Affected Public: Not-for-profit institutions, businesses or other for-profit institutions and tribal entities.

Estimated Number of Respondents: 600.

Estimated Annual Time Per Respondent: 8 hours.

Estimated Total Annual Burden Hours: 4,800 hours.

Requests for Comments: Comments submitted in response to this notice will be summarized and/or included in the request for OMB approval. All comments will become a matter of public record. Comments are invited on: (a) Whether the collection of information is necessary for the proper performance of the functions of the Fund, including whether the information shall have practical utility; (b) the accuracy of the Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: 12 U.S.C. 4703, 4703 note, 4707, 4710, 4714, 4717; 31 U.S.C. 321; and 12 CFR part 1805.

Dated: June 2, 2003.
Tony T. Brown,
Director, Community Development Financial Institutions Fund.

[FR Doc. 03-14296 Filed 6-5-03; 8:45 am]

BILLING CODE 4810-70-P